DEPARTMENT OF AGRICULTURE

Animal and Plant Health Inspection Service

[Docket No. APHIS-2024-0001]

Notice of Decision To Authorize Importation of Phalaenopsis Spp. Orchid Plants for Planting in Approved Growing Media From Germany and the Netherlands Into the United States

AGENCY: Animal and Plant Health Inspection Service, USDA.

ACTION: Notice.

SUMMARY: We are advising the public of our decision to authorize the importation of Phalaenopsis spp. orchid plants from Germany and the Netherlands in approved growing media into the United States. As a condition of entry, Phalaenopsis spp. orchid plants in approved growing media from Germany and the Netherlands will have to meet all relevant requirements included in the U.S. Department of Agriculture Plants for Planting Manual and detailed in a bilateral workplan. This action will allow for the importation of Phalaenopsis spp. orchid plants for planting from Germany and the Netherlands in approved growing media while providing protection against the introduction of plant pests.

DATES: Imports may be authorized beginning July 22, 2025.

FOR FURTHER INFORMATION CONTACT: Dr. Narasimha Chary Samboju, Senior Regulatory Policy Specialist, PPQ, APHIS, 1400 Independence SW, Washington, DC 20250; (301) 851-2038; Narasimha.C.Samboju@aphis.usda.gov.

SUPPLEMENTARY INFORMATION:

Background

Under the regulations in “Subpart H-Plants for Planting” (7 CFR 319.37-1 through 319.37-23, referred to below as the regulations), the Animal and Plant Health Inspection Service (APHIS) of the U.S. Department of Agriculture (USDA) prohibits or restricts the importation of plants for planting (including living plants, plant parts, seeds, and plant cuttings) to prevent the introduction of quarantine pests into the United States.

Section 319.37-10 restricts the importation of plants for planting in approved growing media, with exceptions. Paragraph (d) of § 319.37-10 states that certain types of plants for planting, as listed in the USDA Plants for Planting Manual, may be imported when they are established in a growing medium approved by the Administrator and produced in accordance with additional requirements specified in the manual.

Section 319.37-20 contains provisions for making changes to the list of plants for planting that may be imported in approved growing media, as well as restrictions for the importation of those types of plants for planting beyond the general restrictions in §§ 319.37-5 through 319.37-11. To initiate a change to the list, APHIS will publish in the Federal Register a notice for public comment announcing our proposal to add, change, or remove restrictions on the importation of a specific type of plants for planting. After close of the comment period, we will review comments and issue a second notice announcing the specific restrictions, if any, that APHIS has determined to be necessary to mitigate pest risk. Any changes to the list of types of plants for planting whose importation is subject to additional restrictions, and the specific restrictions applicable to them, will be made to the USDA Plants for Planting Manual and the Agricultural Commodity Import Requirements database (ACIR).¹

¹ https://acir.aphis.usda.gov/s/.

In accordance with that process, we published a notice ² in the Federal Register on November 6, 2024 (89 FR 87999-88000, Docket No. APHIS-2024-0001) in which we announced the availability, for review and comment, of pest risk analyses that evaluated the risks associated with the importation of Phalaenopsis spp. orchid plants from Germany and the Netherlands in approved growing media into the United States. The pest risk analyses consisted of a pest risk assessment identifying pests of quarantine significance that could follow the pathway of the importation of Phalaenopsis spp. orchid plants into the United States from Germany in growing media, and a similar pest risk assessment for the Netherlands. The pest risk analyses also consisted of a risk management document (RMD) identifying phytosanitary measures to be applied to the importation of Phalaenopsis spp. orchid plants from Germany to mitigate the pest risk, and a similar RMD for the Netherlands.

² To view the notice and the supporting documents, go to www.regulations.gov. Enter APHIS-2024-0001 in the Search field.

We solicited comments on the notice for 60 days, ending on January 6, 2025. We received no comments by that date.

Therefore, in accordance with § 319.37-20(c)(2), we are announcing our decision to authorize the importation into the United States of Phalaenopsis spp. orchid plants from Germany and the Netherlands in approved growing media subject to the phytosanitary measures identified in the RMDs that accompanied the initial notice.

These conditions will be listed in the USDA, APHIS Agricultural Commodity Import Requirements (ACIR) database (https://acir.aphis.usda.gov/s/).³ In addition to these specific measures, each shipment must be subject to the general requirements listed in § 319.37-3 that are applicable to the importation of all plants for planting.

³ On September 30, 2022, the APHIS Fruits and Vegetables Import Requirements (FAVIR) database was replaced by the ACIR database.

Paperwork Reduction Act

In accordance with the Paperwork Reduction Act of 1995 (44 U.S.C. 3501 et seq.), the recordkeeping and burden requirements associated with this action are included under the Office of Management and Budget control number 0579-0049.

E-Government Act Compliance

The Animal and Plant Health Inspection Service is committed to compliance with the E- Government Act to promote the use of the internet and other information technologies, to provide increased opportunities for citizen access to Government information and services, and for other purposes. For information pertinent to E-Government Act compliance related to this notice, please contact APHIS.PRA@usda.gov.

Authority: 7 U.S.C. 1633, 7701-7772, and 7781-7786; 21 U.S.C. 136 and 136a; 7 CFR 2.22, 2.80, and 371.3.

Done in Washington, DC, this 11th day of July 2025.
Michael Watson,
Administrator, Animal and Plant Health Inspection Service.

[FR Doc. 2025-13763 Filed 7-21-25; 8:45 am]

BILLING CODE 3410-34-P